NATIONAL SCIENCE FOUNDATION

Committee on Equal Opportunities in Science and Engineering; Notice of Meeting

In accordance with the Federal Advisory Committee Act Pub. L. 92-463, as amended, the National Science Foundation announces the following meeting:

Name: Committee on Equal Opportunities in Science and Engineering (1173).

Date and Time: February 22, 2001 (8 a.m.-5:15 p.m.) and February 23, 2001 (8:30 a.m.-4 p.m.).

Place: National Science Foundation, 4201 Wilson Blvd., Room 1295, Arlington, VA.

Type of Meeting: Open.

Contact Person: Michelle McMurry, Executive Secretary, CEOSE, National Science Foundation, 4201 Wilson Blvd., Arlington, VA 22230. Phone (703) 292-8094.

Minutes: May be obtained from the Executive Secretary at the above address.

Purpose of Meeting: To advise NSF on policies and activities of the Foundation to encourage full participation of women, minorities, and persons with disabilities currently underrepresented in scientific, engineering, professional, and technical fields and to advise NSF concerning implementation of the provisions of the Science and Engineering Equal Opportunities Act.

Agenda

Thursday February 22, 2001 8 a.m. -5:15 pm

8:00 a.m. Breakfast with NSF Staff

8:30 a.m. Welcome; Approval of October 2000 Minutes

8:45 a.m. Report of Executive Committee Liaison

9:00 a.m. New Member Orientation and Welcome

9:15 a.m. Committee Discussion of Agenda

10:00 a.m. Break

10:15 a.m. Update on the National Science Board's Plans for Promoting Diversity in S&E

11:15 a.m. Discussion of National Academy of Engineering Initiative to Increase the Number of Women in Engineering

12:15 p.m. Break

12:39 p.m. Working Lunch, Directorate Advisory Committee Liaison Reports

2:00 p.m. Break

2:15 p.m. Panel Discussion: Collection of Demographic Data and Criterion 2 Information on NSF Grantees, Students, and Reviewers

4:00 p.m. Break

4:15 p.m. The Status of Legal Challenges to Affirmative Action

5:15 p.m. Adjourn

Friday, February 23, 2001 8:30 am -4 p.m.

8:30 a.m. Breakfast

9:00 a.m. Directorate Dialogue: Biological Sciences

10:00 a.m. Presentation of the 2000 CEOSE Biennial Report

10:30 a.m. Directorate Dialogue: Social, Behavioral and Economic Sciences

11:30 a.m. Break

11:45 a.m. Meeting with Deputy Director

12:45 p.m. Lunch

2:00 p.m. Committee Business

4:00 p.m. Adjourn

Dated: January 16, 2001.
Karen J. York,
Committee Management Officer.

[FR Doc. 01-1932 Filed 1-22-01; 8:45 am]

BILLING CODE 7555-01-M